DEPARTMENT OF COMMERCE

Foreign-Trade Zones Board

[Docket 46-2003]

Foreign-Trade Zone 61—San Juan, PR, Application for Expansion of Scope of Manufacturing Authority, Pepsi-Cola Manufacturing International, Ltd.—Subzone 61J (Soft Drink and Juice Beverage Concentrates)

An application has been submitted to the Foreign-Trade Zones Board (the Board) by the Puerto Rico Exports Development Corporation, grantee of FTZ 61, pursuant to section 400.32(b)(2) of the Board's regulations (15 CFR part 400), requesting authority on behalf of Pepsi-Cola Manufacturing International, Ltd. (PCMIL), operator of FTZ 61J, at the PCMIL soft drink and juice beverage concentrate manufacturing plant in Cidra, Puerto Rico, requesting an expansion of the scope of manufacturing authority to include additional finished products and manufacturing capacity under FTZ procedures. It was formally filed on September 12, 2003.

PCMIL operates a facility (171 employees) within the Cidra Industrial Park, in Cidra, Puerto Rico, which is used to produce flavoring concentrates for soft drink beverages under FTZ procedures for the U.S. market and export (Board Order 926, 62 FR 55574, 10-27-97).

The applicant currently requests that the scope of manufacturing authority be expanded to include the manufacture of fruit juice beverage concentrate products marketed under the Dole, Tropicana Season's Best, and Tropicana Twister brands. The application also requests that the scope of authority for sourcing foreign ingredients used in production be extended to include: Banana puree, and fruit juice concentrates (passion, white grape, orange, pear, concord grape, red grape, grapefruit, pineapple) (2003 duty rate range: Free-10%, 0.5¢-7.9¢/liter). Production authority under FTZ procedures would be increased to approximately 5,000 40-foot shipping containers annually.

FTZ procedures would continue to exempt PCMIL from Customs duty payments on the foreign ingredients used in production for export. On its domestic sales and exports to NAFTA countries, the company can choose the lower duty rates that apply to finished beverage concentrates (free, 6.4%) for the foreign ingredients noted above. In accordance with § 400.32(b)(2) of the Board's regulations, a member of the FTZ Staff has been designated examiner to investigate the application.

Public comment on the application is invited from interested parties. Submissions (original and three copies) shall be addressed to the Board's Executive Secretary at the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB-4100W, 1401 Constitution Ave., NW., Washington, DC 20230.

The closing period for their receipt is November 3, 2003. Rebuttal comments in response to material submitted during the foregoing period may be submitted during the subsequent 15-day period to November 18, 2003.

A copy of the application will be available for public inspection at the Office of the Foreign-Trade Zones Board's Executive Secretary at address No. 1 listed above.

Dated: September 12, 2003.
Dennis Puccinelli,
Executive Secretary.

[FR Doc. 03-23965 Filed 9-18-03; 8:45 am]

BILLING CODE 3510-DS-M